DEPARTMENT OF TRANSPORTATION

[Docket No. DOT-OST-2003-15623]

Request for Comments of a Previously Approved Information Collection: Use and Change of Names of Air Carriers, Foreign Air Carriers, and Commuter Air Carriers

AGENCY: Office of the Secretary, DOT.

ACTION: Notice and request for comments.

SUMMARY: In compliance with the Paperwork Reduction Act of 1995, this notice announces that the Information Collection Request (ICR) abstracted below is being forwarded to the Office of Management and Budget (OMB) for review and comments.

DATES: Comments must be submitted on or before May 17, 2023.

ADDRESSES: Send comments regarding the burden estimate, including suggestions for reducing the burden, to the Office of Management and Budget, Attention: Desk Officer for the Office of the Secretary of Transportation, 725 17th Street NW, Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Barbara Snoden, (202) 366-4834, Office of Aviation Analysis, Office of the Secretary, U.S. Department of Transportation, 1200 New Jersey Avenue SE, Washington, DC 20590.

SUPPLEMENTARY INFORMATION: A Federal Register Notice with a 60-day comment period soliciting comments on the following information collection was published on February 7, 2023 [88 FR 8038]. No comments were received.

OMB Control Number: 2106-0043.

Title: Use and Change of Names of Air Carriers, Foreign Air Carriers, and Commuter Air Carriers, 14 CFR part 215.

Type of Request: Extension of a previously approved collection.

Abstract: In accordance with the procedures set forth in 14 CFR part 215, before a holder of certificated, foreign, or commuter air carrier authority may hold itself out to the public in any particular name or trade name, it must register that name or trade name with the Department, and notify all other certificated, foreign, and commuter air carriers that have registered the same name or similar name(s) of the intended name registration.

DOT expects to receive approximately 12 requests from persons to use or change the name or trade name in which they hold themselves out to the public as an air carrier or foreign air carrier. Total respondents expected is approximate 12. Further, DOT expects responders to take 5 hours to complete the form and to prepare amendments to the form. Thus, the total annual burden is expected to be 60 hours.

Affected Public: U.S. and Foreign Air Carriers.

Number of Respondents: 12.

Frequency: On occasion.

Number of Responses: None.

Total Annual Burden: 60 hours.

Authority: The Paperwork Reduction Act of 1995; 14 CFR part 215.

Issued in Washington, DC, on April 12, 2023.
Lauralyn Jean Remo Temprosa,
Associate Director, Air Carrier Fitness Division, Office of Aviation Analysis.

[FR Doc. 2023-08021 Filed 4-14-23; 8:45 am]

BILLING CODE 4910-9X-P